DEPARTMENT OF DEFENSE

Department of the Navy

[Docket ID: USN-2024-HQ-0006]

Proposed Collection; Comment Request

AGENCY: Department of the Navy, Department of Defense (DoD).

ACTION: 60-Day information collection notice.

SUMMARY: In compliance with the Paperwork Reduction Act of 1995, the Commander, Navy Installations Command (CNIC) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 1, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Commander, Navy Installations Command (CNIC), 716 Sicard Street SE, Suite 100, Washington DC, 20374-5140, ATTN: Mr. Horace Franklin, or call 901-307-6872.

SUPPLEMENTARY INFORMATION:

Title; Associated Form; and OMB Number: Anchored4Life Evaluability Study Interviews; OMB Control Number 0703-AFLT.

Needs and Uses: DoD Child Youth Programs (CYPs) require the Anchored4Life program (A4L) to provide Transition and Resiliency training to U.S. Navy (USN), Air Force (USAF), Space Force (USSF), Army (USA), and Marine Corps (USMC) school-based elementary, middle and high schools, installation CYPs, and Geo-dispersed locations. Service Branch CYPs are required by title 10 U.S.C. 1785, “Youth Sponsorship Program,” and DoD Instruction 6060.04, “Youth Services (YS) Policy,” to provide School Liaison and Youth Sponsorship programs. Service Branches use CYP Education Services (CYES) to execute this requirement using School Liaisons (SL), School Based Programs (SBP) and Youth Programs (YP). Execution includes providing resiliency and transition training and support, as well as system navigation assistance to parents of military associated children. A4L is an essential element of the military CYPs, PreK-12 System Navigation, and youth sponsorship programs and shall be provided at military installations and be available to Geo-dispersed locations.

The USN, USAF, and USSF, through the Trevor Romain Contract HDQMWR-21-D-003, are requesting Office of Management and Budget (OMB) clearance for a qualitative study of the A4L program intended to support military-connected youth. Military-connected youth face unique challenges specific to their association with the military in addition to those that are similar to their civilian counterparts. There has been little research examining the implementation or effectiveness of programs and initiatives specifically available to support military-connected youth.

The purpose of this study is to investigate the implementation of A4L training to support military-connected youth (kindergarten through 12th grade), to review current research on K-12 military-connected youth, and evaluate A4L programming to determine effectiveness of transition, deployment support, resiliency impact on other key youth issues including bullying prevention and recovery from grief. The long-term goal is to foster life skills and resiliency in military-connected youth, of which about 45% enter Military Service as adults.

To answer these evaluative questions, semi-structured interview questions will address awareness, implementation, impact, barriers, improvement, and coordination between stakeholders related to A4L impact on military-connected youth who participate.

Affected Public: Individuals or households.

Annual Burden Hours: 232.

Number of Respondents: 576.

Responses per Respondent: 1.

Annual Responses: 576.

Average Burden per Response: 24.17 minutes.

Frequency: Once.

Dated: April 29, 2024.
Aaron T. Siegel,
Alternate OSD Federal Register Liaison Officer, Department of Defense.

[FR Doc. 2024-09557 Filed 5-1-24; 8:45 am]

BILLING CODE 6001-FR-P